GOVERNMENT PRINTING OFFICE

Depository Library Council to the Public Printer; Meeting

The Depository Library Council to the Public Printer (DLC) will meet on Sunday, April 9, 2000, through Wednesday, April 12, 2000, in Newport, Rhode Island. The sessions will take place from 8 p.m. until 10 p.m. on Sunday, 8:30 a.m. until 5 p.m. on Monday and Tuesday and from 8:30 a.m. until 3:30 p.m. on Wednesday. The meeting will be held at the Doubletree Islander Hotel, Goat Island, Newport, Rhode Island. The purpose of this meeting is to discuss the Federal Depository Library Program. All sessions are open to the public.

A limited number of hotel rooms have been reserved at the Doubletree Islander Hotel for anyone needing hotel accommodations. Telephone the hotel directly at (401) 849-2600. Please specify the U.S. Government Printing Office when you contact the hotel. Room cost per night is $86.24, single/double through March 18, 2000.

Michael F. DiMario,
Public Printer.

[FR Doc. 00-5434 Filed 3-6-00; 8:45 am]

BILLING CODE 1520-01-P